DEPARTMENT OF THE INTERIOR

Fish and Wildlife Service

[Docket No. FWS-HQ-IA-2020-0064; FXIA16710900000-201-FF09A30000]

Foreign Endangered Species; Marine Mammals; Receipt of Permit Applications

AGENCY: Fish and Wildlife Service, Interior.

ACTION: Notice of receipt of permit applications; request for comments.

SUMMARY: We, the U.S. Fish and Wildlife Service (Service), invite the public to comment on applications to conduct certain activities with foreign species that are listed as endangered under the Endangered Species Act (ESA) and foreign or native species for which the Service has jurisdiction under the Marine Mammal Protection Act (MMPA). With some exceptions, the ESA and the MMPA prohibit activities with listed species unless Federal authorization is issued that allows such activities. The ESA and MMPA also require that we invite public comment before issuing permits for any activity otherwise prohibited by the ESA or MMPA with respect to any endangered species or marine mammals.

DATES: We must receive comments by July 27, 2020.

ADDRESSES:

Obtaining Documents: The applications, application supporting materials, and any comments and other materials that we receive will be available for public inspection at http://www.regulations.gov in Docket No. FWS-HQ-IA-2020-0064.

Submitting Comments: When submitting comments, please specify the name of the applicant and the permit number at the beginning of your comment. You may submit comments by one of the following methods:

• Internet: http://www.regulations.gov. Search for and submit comments on Docket No. FWS-HQ-IA-2020-0064.

• U.S. mail or hand-delivery: Public Comments Processing, Attn: Docket No. FWS-HQ-IA-2020-0064; U.S. Fish and Wildlife Service Headquarters, MS: PRB/3W; 5275 Leesburg Pike; Falls Church, VA 22041-3803.

For more information, see Public Comment Procedures under SUPPLEMENTARY INFORMATION.

FOR FURTHER INFORMATION CONTACT: Monica Thomas, by phone at 703-358-2185, via email at DMAFR@fws.gov, or via the Federal Relay Service at 800-877-8339.

SUPPLEMENTARY INFORMATION:

I. Public Comment Procedures

A. How do I comment on submitted applications?

We invite the public and local, State, Tribal, and Federal agencies to comment on these applications. Before issuing any of the requested permits, we will take into consideration any information that we receive during the public comment period.

You may submit your comments and materials by one of the methods in ADDRESSES. We will not consider comments sent by email or fax, or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments at http://www.regulations.gov, unless our allowing so would violate the Privacy Act (5 U.S.C. 552a) or Freedom of Information Act (5 U.S.C. 552).

C. Who will see my comments?

If you submit a comment at http://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(c) of the Endangered Species Act of 1973, as amended (ESA; 16 U.S.C. 1531 et seq.), and section 104(c) of the Marine Mammal Protection Act of 1972, as amended (MMPA; 16 U.S.C. 1361 et seq.), we invite public comments on permit applications before final action is taken. With some exceptions, the ESA and MMPA prohibit certain activities with listed species unless Federal authorization is issued that allows such activities. Permits issued under section 10(a)(1)(A) of the ESA allow otherwise prohibited activities for scientific purposes or to enhance the propagation or survival of the affected species. Service regulations regarding prohibited activities with endangered species, captive-bred wildlife registrations, and permits for any activity otherwise prohibited by the ESA with respect to any endangered species are available in title 50 of the Code of Federal Regulations in part 17. Service regulations regarding permits for any activity otherwise prohibited by the MMPA with respect to any marine mammals are available in title 50 of the Code of Federal Regulations in part 18. Concurrent with publishing this notice in the Federal Register, we are forwarding copies of the marine mammal application to the Marine Mammal Commission and the Committee of Scientific Advisors for their review.

III. Permit Applications

We invite comments on the following applications.

A. Endangered Species

Applicant: L.A. Waters Ranch, LLC, Utopia, TX; Permit No. 16883D

The applicant requests a permit to export samples derived from captive African wild ass (Equus africanus) for the purpose of enhancing the propagation or survival of the species through scientific research. This notification is for a single export.

Applicant: Toledo Zoological Gardens, Toledo, OH; Permit No. 49147D

The applicant requests a permit to import one female captive-born Amur leopard (Panthera pardus orientalis) from Thrigby Hall Wildlife Gardens, Great Yarmouth, United Kingdom, to Toledo Zoological Gardens, Toledo, OH, with immediate transport to the Niabi Zoo, Coal Valley, IL, for the purpose of enhancing the propagation or survival of the species. This notification is for a single import.

Applicant: Institute for the Conservation of Tropical Environments, Stony Brook, NY; Permit No. 56547D

The applicant requests authorization to import biological samples derived from wild golden bamboo lemurs (Hapalemur aureus), greater bamboo lemurs (Prolemur simus), and red-fronted lemurs (Eulemur rufus), taken in Madagascar, for the purpose of scientific research. This notification covers activities to be conducted by the applicant over a 5-year period.

Applicant: Columbian Park Zoo/City of Lafayette, Lafayette, IN; Permit No. 60773D

The applicant requests a permit to acquire six male and two female captive-bred African penguins (Spheniscus demersus) in interstate commerce from Six Flags Discovery Kingdom, Vallejo, California, for the purpose of enhancing the propagation or survival of the species. This notification is for a single interstate commerce activity.

Applicant: Fort Worth Zoological Association, Inc., Fort Worth, TX; Permit No. 65855D

The applicant requests a permit to import two female captive-born Asian elephants (Elephas maximus) from African Lion Safari, Ontario, Canada, for the purpose of enhancing the propagation or survival of the species. This notification is for a single import.

Applicant: Minnesota Zoological Gardens, Apple Valley, MN; Permit No. 60225D

The applicant requests a permit to import one female captive-born Amur leopard (Panthera pardus orientalis) from Thrigby Hall Wildlife Gardens, Great Yarmouth, United Kingdom, for the purpose of enhancing the propagation or survival of the species. This notification is for a single import.

Applicant: U.S. Fish and Wildlife Service Carlsbad Field Office, Carlsbad, CA; Permit No. 69406D

The applicant requests a permit to export biological samples derived from nonviable eggs of California least terns (Sterna antillarum browni) to AXYS Analytical Services, Sidney, Canada, for the purpose of scientific research. This notification is for a single export.

Applicant: Royal Botanic Gardens, KEW, c/o U.S. Fish and Wildlife Service Field Office, Boquerón, Puerto Rico; Permit No. 76438D

The applicant requests authorization to export dried/preserved leaves, floral structures, and vegetative material of (Zanthoxylum thomasianum) for the purpose of scientific research. This notification covers activities to be conducted by the applicant over a 5-year period.

Applicant: International Center for the Preservation of Wild Animals dba The Wilds, Cumberland, OH; Permit No. 56752D

The applicant requests a captive-bred wildlife registration under 50 CFR 17.21(g) for the following species, to enhance the propagation or survival of the species: African wild dog (Lycaon pictus), Asian wild ass (Equus hemionus), Bactrian camel (Camelus bactrianus), Bactrian deer (Cervus elaphus bactrianus), banteng (Bos javanicus), cheetah (Acinonyx jubatus), dhole (Cuon alpinus), goral (Naemorhedus goral), great Indian rhinoceros (Rhinoceros unicornis), Przewalski's horse (Equus przewalskii), and red-crowned crane (Grus japonensis). This notification covers activities to be conducted by the applicant over a 5-year period.

Applicant: The Condor Fund, Las Vegas, NV; Permit No. 54520D

The applicant requests a captive-bred wildlife registration under 50 CFR 17.21(g) for the following species, to enhance the propagation or survival of the species. This notification covers activities to be conducted by the applicant over a 5-year period.

Common name | Scientific name
Andean condor | Vultur gryphus
Blue-throated macaw | Ara glaucogularis
Great green macaw | Ara ambiguous
Military macaw | Ara militaris

Applicant: John Grigus, Lemont, IL; Permit No. 25262B

The applicant requests a captive-bred wildlife registration under 50 CFR 17.21(g) for Madagascar radiated tortoise (Geochelone radiata) to enhance the propagation or survival of the species. This notification covers activities to be conducted by the applicant over a 5-year period.

Applicant: Lonesome Bull Ranch, Sardia, TX; Permit No. 60507D

The applicant requests a captive-bred wildlife registration under 50 CFR 17.21(g) for barasingha (Rucervus duvaucelli) and Arabian oryx (Oryx leucoryx) to enhance the propagation or survival of the species. This notification covers activities to be conducted by the applicant over a 5-year period.

Applicant: Saint Louis Zoo, Saint Louis, MO; Permit No. 66451D

The applicant requests a captive-bred wildlife registration under 50 CFR 17.21(g) for the following species, to enhance the propagation or survival of the species. This notification covers activities to be conducted by the applicant over a 5-year period.

Common name | Scientific name
Amur tiger | Panthera tigris altaica
Amur leopard | Panthera pardus orientalis
Snow leopard | Uncia
African wild dog | Lycaon pictus
Cheetah | Acinonyx jubatus
Asian elephant | Elephas maximus
Black rhinoceros | Diceros bicornis
Addax | Addax nasomaculatus
Babirusa | Babyrousa babyrussa
Banteng | Bos javanicus
African wild ass | Equus africanus
Dama gazelle | Gazelle dama
White-nape crane | Grus vipio
Bali mynah | Leucopsar rothschildi
Horned guan | Oreophasis derbianus
Cabot's tragopan | Tragopan caboti

Applicant: Charles Musgrave, Pilot Point, TX; Permit No. 67131D

The applicant requests a captive-bred wildlife registration under 50 CFR 17.21(g) for Galapagos tortoise (Chelonoidis niger) and radiated tortoise (Astrochelys radiata) to enhance the propagation or survival of the species. This notification covers activities to be conducted by the applicant over a 5-year period.

Applicant: Fascination Herpetoculture, Thicket, TX; Permit No. 28941B

The applicant requests renewal of a captive-bred wildlife registration under 50 CFR 17.21(g) for Galapagos tortoise (Chelonoidis niger), radiated tortoise (Astrochelys radiata), dwarf crocodile (Osteolaemus tetraspis tetraspis), yacare caiman (Caiman yacare), common caiman (Caiman crocodylus crocodylus), and broad-snouted caiman (Caiman latirostris), to enhance the propagation or survival of the species. This notification covers activities to be conducted by the applicant over a 5-year period.

Applicant: Peter M. Stein, Manchester, CT; Permit No. 76702D

The applicant requests renewal of a captive-bred wildlife registration under 50 CFR 17.21(g) for radiated tortoise (Astrochelys radiata), yellow-spotted river turtle (Podocnemis unifilis), and spotted pond turtle (Geoclemys hamiltonii) to enhance the propagation or survival of the species. This notification covers activities to be conducted by the applicant over a 5-year period.

Applicant: Lonesome Bull Ranch, Sardia, TX; Permit No. 68664D

The applicant requests a permit authorizing the culling of excess barasingha (Rucervus duvaucelli) and Arabian oryx (Oryx leucoryx) from the captive herd maintained at their facility, to enhance the species' propagation and survival. This notification covers activities to be conducted by the applicant over a 5-year period.

Applicant: Lucky 7 Exotics Ranch, Eden, TX; Permit No. 70466A

The applicant requests a permit authorizing the culling of excess Arabian oryx (Oryx leucoryx) and barasingha (Rucervus duvaucelli) from the captive herd maintained at their facility, to enhance the species' propagation and survival. This notification covers activities to be conducted by the applicant over a 2-year period.

B. Endangered Marine Mammals and Marine Mammals

Applicant: USGS C/O Joseph Tomoleoni, Santa Cruz, CA; Permit No. 672624

The applicant requests to renew their permit to take Southern sea otters (Enhydra lutris nereis) for the purpose of scientific research. This notification covers activities to be conducted by the applicant over a 5-year period.

IV. Next Steps

After the comment period closes, we will make decisions regarding permit issuance. If we issue permits to any of the applicants listed in this notice, we will publish a notice in the Federal Register. You may locate the notice announcing the permit issuance by searching http://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations, and the Marine Mammal Protection Act of 1972, as amended (16 U.S.C. 1361 et seq.), and its implementing regulations.

Monica Thomas,
Management Analyst, Branch of Permits, Division of Management Authority.

[FR Doc. 2020-13743 Filed 6-24-20; 8:45 am]

BILLING CODE 4333-15-P